DEPARTMENT OF DEFENSE

Office of the Secretary

Notification of Open Meeting of the National Defense University Board of Visitors (BOV)

AGENCY: National Defense University, DoD.

ACTION: Notice of Open Meeting; Date Change.

SUMMARY: On January 10, 2011 (76 FR 1408), the Department of Defense published a notice of an open meeting of the National Defense University (NDU) Board of Visitors. The dates of the meeting have been changed and are updated below. The location remains unchanged.

DATES: The meeting will be held on May 24 & 25, 2011 from 11:30 a.m. to 5 p.m. on the 24th and continuing on the 25th from 8 a.m. to 12:30 p.m.

ADDRESSES: The Board of Visitors meeting will be held at Marshall Hall, Building 62, Room 155, the National Defense University, 300 5th Avenue, SW., Fort McNair, Washington, DC 20319-5066.

FOR FURTHER INFORMATION CONTACT: The point of contact for this notice of Open Meeting is Ms. Joycelyn Stevens @ (202) 685-0079, Fax (202) 685-3920 or StevensJ7@ndu.edu.

Dated: March 25, 2011.
Morgan F. Park,
Alternate OSD Federal Register Liaison Officer, Department of Defense.

[FR Doc. 2011-8012 Filed 4-4-11; 8:45 am]

BILLING CODE 5001-06-P